DEPARTMENT OF TRANSPORTATION

Surface Transportation Board

[STB Docket No. AB-355 (Sub-No. 27X)]

Springfield Terminal Railway Company—Discontinuance of Service Exemption—Portion of Bemis Branch, in Middlesex County, MA

Springfield Terminal Railway Company (ST) has filed a notice of exemption under 49 CFR 1152 Subpart F—Exempt Abandonments and Discontinuances to discontinue service over a 2.11-mile line of railroad ¹ known as the Bemis Branch extending from milepost 8.83 to milepost 10.94,² in Waltham and Watertown, Middlesex County, MA. The line traverses United States Postal Service Zip Codes 02451 and 02472.

¹ ST acquired its leasehold interest in the line from Boston and Maine Corporation (B&M), an affiliate of ST, in D&H Ry—Lease & Trackage Rights Exemp. Springfield Term., 4 I.C.C.2d 322 (1988). ST states that, prior to the effective date of this discontinuance, title to the line was or will be acquired by third parties.

² B&M was authorized to abandon the line in Boston and Maine Corporation—Abandonment—in Middlesex County, MA, STB Docket No. AB-32 (Sub-No. 89) (STB served Aug. 16, 2000), and consummated the abandonment in June 2001. By letter filed on April 30, 2003, ST supplemented its notice of exemption to explain that it did not seek approval to discontinue its operations at the time of the B&M abandonment because it was unaware that such approval was required.

ST has certified that: (1) No local traffic has moved over the line for at least 2 years; (2) there is no overhead traffic to be rerouted; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on June 6, 2003,³ unless stayed pending reconsideration. Petitions to stay that do not involve environmental issues and formal expressions of intent to file an OFA under 49 CFR 1152.27(c)(2),⁴ must be filed by May 19, 2003. Petitions to reopen must be filed by May 27, 2003, with the Surface Transportation Board, 1925 K Street, NW., Washington, DC 20423-0001.

³ Because this is a discontinuance proceeding and not an abandonment, trail use/rail banking and public use conditions are not appropriate. Likewise, no environmental or historic documentation is required under 49 CFR 1105.6(c) and 1105.8. Nevertheless, ST filed an environmental report with its notice. The Board's Section of Environmental Analysis (SEA) issued an environmental assessment on May 31, 2000, in connection with B&M's abandonment of the line.

⁴ Each OFA must be accompanied by the filing fee, which currently is set at $1,100. See 49 CFR 1002.2(f)(25).

A copy of any petition filed with the Board should be sent to ST's representative: Katherine E. Potter, Esq., Springfield Terminal Railway Company, Iron Horse Park, North Billerica, MA 01862.

If the verified notice contains false or misleading information, the exemption is void ab initio.

Board decisions and notices are available on our Web site at http://www.stb.dot.gov.

Decided: May 1, 2003.
By the Board, David M. Konschnik, Director, Office of Proceedings.
Vernon A. Williams,
Secretary.

[FR Doc. 03-11308 Filed 5-6-03; 8:45 am]

BILLING CODE 4915-00-P